DEPARTMENT OF TRANSPORTATION

Maritime Administration

Voluntary Intermodal Sealift Agreement—5 Year Extension

AGENCY: Maritime Administration, Department of Transportation.

ACTION: Notice.

SUMMARY: The Maritime Administration (MARAD) announces the extension of the Voluntary Intermodal Sealift Agreement (VISA) until October 1, 2024, pursuant to section 708 of the Defense Production Act of 1950, as amended. The purpose of the VISA is to make intermodal shipping services/systems, including ships, ships' space, intermodal facilities and equipment, and related management services, available to the Department of Defense as required to support the emergency deployment and sustainment of U.S. Armed Forces. This is to be accomplished through cooperation among the maritime industry, the Department of Transportation and the Department of Defense.

FOR FURTHER INFORMATION CONTACT: William G. McDonald, Office of Sealift Support, Room W25-310, Maritime Administration, 1200 New Jersey Avenue SE, Washington, DC 20590, William.McDonald@dot.gov, (202) 366-2323, Fax (202) 366-5904.

SUPPLEMENTARY INFORMATION: Pursuant 50 U.S.C. 4558(f)(2), the VISA may be extended for an additional period of 5 years provided (a) the Maritime Administrator (Administrator) certifies by publication in the Federal Register that the VISA is necessary for the national defense or preparedness programs and (b) the Attorney General (after consultation with the Chairman of the Federal Trade Commission (FTC)) finds that such purpose may not reasonably be achieved through a voluntary agreement or plan of action having less anticompetitive effects or without any voluntary agreement.

By this notice, the Administrator determines that conditions exist which may pose a direct threat to the national defense of the United States or its preparedness programs and certifies that the VISA, a standby agreement for utilization of intermodal shipping services/systems, is necessary for the national defense or preparedness programs. The Attorney General, after consultation with the Chairman of the FTC, found the national defense or preparedness programs may not reasonably be achieved through a voluntary agreement or plan of action having less anticompetitive effects or without any voluntary agreement. Publication of these findings in this notice satisfies the publication requirements of 50 U.S.C. 4558(f). Accordingly, the VISA, as published in the Federal Register on October 29, 2014 (79 FR 64462), is extended until October 1, 2024. Current VISA participants are therefore not required to submit a new VISA application pursuant to this extension.

Copies of the VISA are available to the public upon request.

Authority: 50 U.S.C. 4558; E.O. 13603, 77 FR 16651; E.O. 12656, 55 FR 47491; 49 CFR 1.93(l), 49 CFR 1.81(a)(10).

Dated: September 25, 2019.
By Order of the Maritime Administrator.
T. Mitchell Hudson, Jr.,
Secretary, Maritime Administration.

[FR Doc. 2019-21215 Filed 9-27-19; 8:45 am]

BILLING CODE 4910-81-P